DEPARTMENT OF THE INTERIOR

Fish and Wildlife Service

[FWS-HQ-ES-2020-N100; FXES111609C0000-245-FF09E41000; OMB Control Number 1018-0094]

Agency Information Collection Activities; Federal Fish and Wildlife Permit Applications and Reports—Native Endangered and Threatened Species

AGENCY: Fish and Wildlife Service, Interior.

ACTION: Notice of information collection; request for comment.

SUMMARY: In accordance with the Paperwork Reduction Act of 1995, we, the U.S. Fish and Wildlife Service (Service), are proposing to renew an information collection without change.

DATES: Interested persons are invited to submit comments on or before February 7, 2024.

ADDRESSES: Written comments and recommendations for the proposed information collection should be submitted within 30 days of publication of this notice at https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference OMB Control Number 1018-0094 in the subject line of your comments.

FOR FURTHER INFORMATION CONTACT: Madonna Baucum, Service Information Collection Clearance Officer, by email at Info_Coll@fws.gov, or by telephone at (703) 358-2503. Individuals who are hearing or speech impaired may call the Federal Relay Service at 1-800-877-8339 for TTY assistance. You may also view the information collection request (ICR) at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On February 9, 2023, we published in the Federal Register (88 FR 8380) a proposed rule (RIN 1018-BF99) containing a notice of our intent to request that OMB approve the existing and new information collections contained in that rulemaking. We solicited comments for 60 days, ending on April 10, 2023. We received one comment addressing the information collection requirements contained in that proposed rule, which will be addressed in the submission to OMB associated with the final rule. The Service plans to publish the associated final rule, which will request OMB approval of the new information collections, in the spring of 2024. However, due to this collection expiring before the anticipated publication of that final rule, we are now requesting that OMB approve an extension, without change, to this collection, to this collection to extend the current expiration date.

As part of our continuing effort to reduce paperwork and respondent burdens, we are again soliciting comments from the public and other Federal agencies on the proposed information collection request (ICR) that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Endangered Species Act (ESA; 16 U.S.C. 1531 et seq.) provides a means to conserve the ecosystems upon which endangered and threatened species depend, to provide a program for the conservation of these endangered and threatened species, and to take the appropriate steps that are necessary to bring any endangered or threatened species to the point where measures provided for under the ESA are no longer necessary. Section 10(a)(1)(A) of the ESA authorizes us to issue permits for otherwise prohibited activities in order to enhance the propagation or survival of the affected species. Section 10(a)(1)(B) of the ESA authorizes us to issue permits if the taking is incidental to the carrying out of an otherwise lawful activity. ESA section 10(d) requires that such permits be applied for in good faith and, if granted, that the permit not operate to the disadvantage of endangered species, and that the permit be consistent with the purposes of the ESA.

Our regulations implementing the ESA are in chapter I, subchapter B of title 50 of the Code of Federal Regulations (CFR) (50 CFR 13 and 50 CFR 17). The regulations stipulate general and specific requirements that, when met, allow us to issue permits to authorize activities that are otherwise prohibited. Upon receipt of a complete application, the Director may issue a permit authorizing any activity otherwise prohibited by § 17.21, in accordance with the issuance criteria of this section, for scientific purposes, for enhancing the propagation or survival, or for the incidental taking of endangered wildlife. Such permits may authorize a single transaction, a series of transactions, or a number of activities over a specific period of time. (See § 17.32 for permits for threatened species.)

We collect information associated with application forms to determine the eligibility of applicants for permits requested in accordance with the criteria in section 10 of the ESA. The Service uses the following permit application forms for activities associated with native endangered and threatened species:

• Form 3-200-54, Enhancement of Survival Permits Associated with Safe Harbor Agreement and Candidate Conservation Agreement with Assurances;

• Form 3-200-56, Incidental Take Permits Associated with a Habitat Conservation Plan (HCP);

• Form 3-200-59, Scientific, Enhancement of Propagation, or Survival (i.e., Purposeful Take for Recovery); and

• Form 3-200-60, Interstate Commerce.

Annual reporting of the results subsequent to the activity authorized by the permit is required in most cases (under the authority of section 10(a)(1)(A) and 10(a)(1)(B) of the ESA and its implementing regulations at 50 CFR 17). These reports allow us to evaluate the success of the project, formulate further research, and develop and adjust management and recovery plans for the species. We currently use the following reports specific to particular species (and regions, where appropriate):

• Form 3-202-55a, U.S. Fish and Wildlife Service Geographic Area: Southwestern Bat Reporting Form;

• Form 3-202-55b, U.S. Fish and Wildlife Service Geographic Area: Midwestern Bat Reporting Form;

• Form 3-202-55c, U.S. Fish and Wildlife Service Geographic Area: Southeastern Bat Reporting Form;

• Form 3-202-55d, U.S. Fish and Wildlife Service Geographic Area: Northeastern Bat Reporting Form; and

• Form 3-202-55e, U.S. Fish and Wildlife Service Geographic Area: Plains/Rockies Bat Reporting Form.

• Form 3-202-55f, Non-Releasable Sea Turtle Annual Report; and

• Form 3-202-55g, Sea Turtle Rehabilitation Annual Report.

• Form 3-2523, Midwest Geographic Area: Freshwater Mussel Reporting Form;

• Form 3-2526, Midwest Geographic Area: Bumble Bee Reporting Form;

• Form 3-2530, California/Nevada/Klamath Basin, OR Recovery Permit Annual Summary Report Form;

• Form 3-2532, U.S. Fish and Wildlife Service Geographic Area: Alaska Bat Reporting Form;

• Form 3-2533, U.S. Fish and Wildlife Service Geographic Area: Northwestern Bat Reporting Form; and

• Form 3-2534, U.S. Fish and Wildlife Service Geographic Area: Western Bat Reporting Form.

Annual reporting of the results subsequent to the activity authorized by the permit is required in most cases (under the authority of section 10(a)(1)(A) and section 10(a)(1)(B) of the ESA and its implementing regulations at 50 CFR 17). The Service designed the forms to facilitate the electronic reporting specifically for each species. The Service will use the reported data to evaluate the success of the permitted project, formulate further research, and develop and adjust management and recovery plans for the species. The data will also inform 5-year reviews and species status assessments conducted under the ESA.

Additionally, we require that the following notifications be made to the Service:

• Private landowners who have an enhancement of survival permit (and accompanying safe harbor agreement or candidate conservation agreement with assurances) must notify us if their land management activities incidentally take a listed or candidate species covered under their permit.

• We issue enhancement of survival permits to landowners, and their name is printed on the permit. If ownership of the land changes, this permit does not automatically transfer to the new landowner. Therefore, we ask the permittee to notify us if there is a change in land ownership so that we may update the permit; and

• If a recovery or interstate commerce permit authorizes activities that include keeping wildlife in captivity, we ask the permittee to notify us if any of the captive wildlife escape.

Title of Collection: Federal Fish and Wildlife Permit Applications and Reports—Native Endangered and Threatened Species; 50 CFR 10, 13, and 17.

OMB Control Number: 1018-0094.

Form Numbers: FWS Forms 3-200-54, 3-200-56, 3-200-59, 3-200-60, 3-202-55a through 3-202-55g, 3-2523, 3-2526, 3-2530, and 3-2532 through 3-2534 (new).

Type of Review: Extension of a currently approved collection.

Respondents/Affected Public: Individuals; private sector; and State/local/Tribal governments.

Total Estimated Number of Annual Respondents: 4,258.

Total Estimated Number of Annual Responses: 4,258.

Estimated Completion Time per Response: Varies from 30 minutes to 2,080 hours, depending on activity.

Total Estimated Number of Annual Burden Hours: 119,949.

Respondent's Obligation: Voluntary.

Frequency of Collection: On occasion, annually, one time.

Total Estimated Annual Nonhour Burden Cost: $54,910 for fees associated with permit applications and amendments.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2024-00068 Filed 1-5-24; 8:45 am]

BILLING CODE 4333-15-P